DEPARTMENT OF LABOR

Bureau of Labor Statistics

Information Collection Activities; Comment Request

AGENCY: Bureau of Labor Statistics, Department of Labor.

ACTION: Notice of information collection; request for comment.

SUMMARY: The Department of Labor, as part of its continuing effort to reduce paperwork and respondent burden, conducts a pre-clearance consultation program to provide the general public and Federal agencies with an opportunity to comment on proposed and/or continuing collections of information in accordance with the Paperwork Reduction Act of 1995. This program helps to ensure that requested data can be provided in the desired format, reporting burden (time and financial resources) is minimized, collection instruments are clearly understood, and the impact of collection requirements on respondents can be properly assessed. The Bureau of Labor Statistics (BLS) is soliciting comments concerning the proposed revision of the “BLS Data Sharing Program.” A copy of the proposed information collection request can be obtained by contacting the individual listed below in the ADDRESSES section of this notice.

DATES: Written comments must be submitted to the office listed in the Addresses section of this notice on or before August 7, 2023.

ADDRESSES: Send comments to Erin Good, BLS Clearance Officer, Division of Management Systems, Bureau of Labor Statistics, Room G225, 2 Massachusetts Avenue, NE, Washington, DC 20212. Written comments also may be transmitted by email to BLS_PRA_Public@bls.gov.

FOR FURTHER INFORMATION CONTACT: Erin Good, BLS Clearance Officer, at 202-691-7628 (this is not a toll free number). (See ADDRESSES section.)

SUPPLEMENTARY INFORMATION:

I. Background

An important aspect of the mission of the BLS is to disseminate to the public the maximum amount of information possible. Not all data are publicly available because of the importance of maintaining the confidentiality of BLS data. However, the BLS has opportunities available on a limited basis for eligible researchers to access confidential data for purposes of conducting valid statistical analyses that further the mission of the BLS as permitted in the Confidential Information Protection and Statistical Efficiency Act (CIPSEA).

The BLS makes confidential data available to eligible researchers through three major programs:

1. The National Longitudinal Surveys of Youth (NLSY) is designed to document the transition from school to work and into adulthood. The NLSY collects extensive information about youths' labor market behavior and educational experiences over time. The NLSY includes three different cohorts: the National Longitudinal Survey of Youth 1979 (NLSY79), the NLSY79 Young Adult Survey, and the National Longitudinal Survey of Youth 1997 (NLSY97). NLSY data beyond the public use data are made available in greater detail through an offsite program to eligible researchers.

2. The Census of Fatal Occupational Injuries (CFOI), as part of the BLS occupational safety and health statistics program, compiles a count of all fatal work injuries occurring in the U.S. in each calendar year. Multiple sources are used in order to provide as complete and accurate information concerning workplace fatalities as possible. A research file containing CFOI data is made available offsite to eligible researchers.

3. Additionally, the BLS makes available data from several employment, prices, compensation, and working conditions surveys to eligible researchers for onsite use. Eligible visiting researchers can access these data in researcher rooms at the BLS national office in Washington, DC or at a Federal Statistical Research Data Center (FSRDC).

II. Current Action

Office of Management and Budget clearance is being sought for a revision of the BLS Data Sharing Program. In order to provide access to confidential data under CIPSEA, the BLS must enter into legal agreements with approved researchers' institutions. This information collection allows the BLS to obtain the necessary details for those legal agreements which are not captured through the Standard Application Process (SAP).

An Emergency OMB Clearance Package 1220-0199 approved collection of an additional Special Agreement Check Information Form for 180 days. This form is used to fulfill a Department of Labor (DOL) security requirement that all visitors require a minimal background check to access Federal facilities. Continued collection of this information is essential to granting approved researchers access to restricted data at the BLS National Office. Package 1220-0199 expires on December 31, 2023, after which time the form will be covered under this package 1220-0180.

III. Desired Focus of Comments

The Bureau of Labor Statistics is particularly interested in comments that:

• Evaluate whether the proposed collection of information is necessary for the proper performance of the functions of the agency, including whether the information will have practical utility.

• Evaluate the accuracy of the agency's estimate of the burden of the proposed collection of information, including the validity of the methodology and assumptions used.

• Enhance the quality, utility, and clarity of the information to be collected.

• Minimize the burden of the collection of information on those who are to respond, including through the use of appropriate automated, electronic, mechanical, or other technological collection techniques or other forms of information technology, e.g., permitting electronic submissions of responses.

Title of Collection: BLS Data Sharing Program.

OMB Number: 1220-0180.

Type of Review: Revision.

Affected Public: Individuals.

Form | Total respondents | Frequency | Total responses | Average time per response (minutes) | Estimated total burden hours
NLSY | 95 | Once (on occasion) | 95 | 15 | 23.75
CFOI | 3 | Once (on occasion) | 3 | 15 | 0.75
FSRDC Researcher | 10 | Once (on occasion) | 10 | 15 | 2.5
Onsite Researcher | 20 | Once (on occasion) | 20 | 25 | 8.33
Totals | 128 |  | 128 |  | 35.33

Comments submitted in response to this notice will be summarized and/or included in the request for Office of Management and Budget approval of the information collection request; they also will become a matter of public record.

Signed at Washington, DC, on June 2, 2023.
Leslie A. Bennett,
Chief, Division of Management Systems.

[FR Doc. 2023-12198 Filed 6-6-23; 8:45 am]

BILLING CODE 4510-24-P